ENVIRONMENTAL PROTECTION AGENCY

[EPA-HQ-OAR-2003-0078; FRL-9687-01-OMS]

Information Collection Request Submitted to OMB for Review and Approval; Comment Request; Landfill Methane Outreach Program (Renewal)

AGENCY: Environmental Protection Agency (EPA).

ACTION: Notice.

SUMMARY: The Environmental Protection Agency (EPA) has submitted an information collection request (ICR), Landfill Methane Outreach Program (EPA ICR Number 1849.10, OMB Control Number 2060-0446) to the Office of Management and Budget (OMB) for review and approval in accordance with the Paperwork Reduction Act. This is a proposed extension of the ICR, which is currently approved through April 30, 2022. Public comments were previously requested via the Federal Register on July 26, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 22, 2022.

ADDRESSES: Submit your comments, referencing Docket ID Number EPA-HQ-OAR-2003-0078, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently Under 30-day Review—Open for Public Comments” or by using the search function.

FOR FURTHER INFORMATION CONTACT: Lauren Aepli, Climate Change Division, Office of Atmospheric Programs, (6207A), Environmental Protection Agency, 1200 Pennsylvania Ave. NW, Washington, DC 20460; telephone number: (202) 343-9423; fax number: (202) 343-2342; email address: aepli.lauren@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Landfill Methane Outreach Program (LMOP), created by EPA as part of the United States' commitment to reduce greenhouse gas emissions under the United Nations Framework Convention on Climate Change, is a voluntary program designed to encourage and facilitate the development of environmentally and economically sound landfill gas (LFG) energy projects across the United States to reduce methane emissions from landfills. LMOP meets these objectives by educating local governments and communities about the benefits of LFG recovery and use; building partnerships between state agencies, industry, energy service providers, local communities, and other stakeholders interested in developing this valuable resource in their community; and providing tools to evaluate LFG energy potential. LMOP signed voluntary Memoranda of Understanding (MOUs) with these organizations to enlist their support in promoting cost-effective LFG utilization. The information collection includes completion and submission of the MOU, periodic information updates, and annual completion and submission of basic information on landfill methane projects with which the organizations are involved as an effort to update the LMOP Landfill and Landfill Gas Energy Project Database. The information collection is to be utilized to maintain up-to-date data and information about LMOP Partners and LFG energy projects with which they are involved. The data will also be used by the public to access LFG energy project development opportunities in the United States. In addition, the information collection will assist EPA in evaluating the reduction of methane emissions from landfills. No confidential information is requested or required in this information collection.

Form Numbers: 5900-157, 5900-158, 5900-159, 5900-160, 5900-161, 5900-573, 5900-574, and 5900-575.

Respondents/affected entities: Private companies and municipalities that own or operate landfills; manufacturers and suppliers of equipment/knowledge to capture and utilize LFG; utility companies; end-users of energy from landfills; developers of LFG energy projects; State agencies; service providers of technologies to reduce emissions from operations; and other LFG energy stakeholders.

Respondent's obligation to respond: Voluntary.

Estimated number of respondents: 1,221 (total).

Frequency of response: Annual.

Total estimated burden: 2,494 hours (per year). Burden is defined at 5 CFR 1320.03(b).

Total estimated cost: $228,545 (per year), includes $0 annualized capital or operation & maintenance costs.

Changes in the Estimates: There is an increase of 221 hours in the total estimated respondent burden compared with the ICR currently approved by OMB. This increase is due to anticipated growth in the number of new LMOP Partners annually.

Courtney Kerwin,
Director, Regulatory Support Division.

[FR Doc. 2022-06109 Filed 3-22-22; 8:45 am]

BILLING CODE 6560-50-P